DEPARTMENT OF COMMERCE

Submission for OMB Review; Comment Request

DOC has submitted to the Office of Management and Budget (OMB) for clearance the following proposal for collection of information under the provisions of the Paperwork Reduction Act of 1995, Public Law 104-13.

Bureau: International Trade Administration.

Title: Imports of Certain Worsted Wool Fabric: Implementation of Tariff Rate Quota Established Under Title V of the Trade and Development Act of 2000.

Agency Form Number: ITA-4139P, and ITA-4140P.

OMB Number: 0625-0240.

Type of Request: Regular Submission.

Estimated Burden: 352 hours.

Estimated Number of Respondents: 24.

Est. Avg. Hours Per Response: 1—24 hours.

Needs and Uses: Title V of the Trade and Development Act of 2000 (“the Act”) contains several provisions to assist the wool products industries. These include the establishment of tariff rate quotas (TRQ) for a limited quantity of worsted wool fabrics. The Act requires the President to fairly allocate the TRQ to persons who cut and sew men's and boys' worsted wool suits and suit like jackets and trousers in the United States, and who apply for an allocation based on the amount of suits they produce in the prior year. The Act further requires the President, on an annual basis, to consider requests from the manufacturers of the apparel products listed above, to modify the limitation on the quantity of imports subject to the TRQ. The Act specifies factors to be considered in making determinations on such requests. The TRQ is effective for goods entered or withdrawn from warehouse for consumption, on or after January 1, 2001, and will remain in force through 2003. A TRQ allocation will be valid only in the year for which it is issued.

On December 1, 2000, the President issued Proclamation 7383 that, among other things, delegates authority to the Secretary of Commerce to allocate the TRQ; to consider, on an annual basis, requests to modify the limitation on the quantity of the TRQ and to recommend appropriate modifications to the President; and to issue regulations to implement these provisions. On January 22, 2001, the Department of Commerce published regulations establishing procedures for allocation of the tariff rate quotas (66 FR 6459, 15 CFR part 335) and for considering requests for modification of the limitations (66 FR 6459, 15 CFR part 340).

The Department must collect certain information in order to fairly allocate the TRQ to eligible persons and to make informed recommendations to the President on whether or not to modify the limitation on the quantity of the TRQ. This request for comment is for the proposed information collections after July 31, 2001.

Affected Public: Business or other for-profits.

Frequency: Annually.

Respondent's Obligation: Voluntary.

OMB Desk Officer: David Rostker, (202) 395-7340.

Copies of the above information collection proposal can be obtained by calling or writing Madeleine Clayton, Departmental Paperwork Clearance Officer, (202) 482-3129, Department of Commerce, Room 6086, 14th and Constitution, NW., Washington, DC 20230

Written comments and recommendations for the proposed information collection should be sent to David Rostker, OMB Desk Officer, Room 10202, New Executive Office Building, Washington, DC 20503 within 30 days of the publication of this notice in the Federal Register.

Dated: May 31, 2001.
Madeleine Clayton,
Departmental Paperwork Clearance Officer, Office of the Chief Information Officer.

[FR Doc. 01-14112 Filed 6-4-01; 8:45 am]

BILLING CODE 3510-DR-P